DEPARTMENT OF THE INTERIOR

National Park Service

[N6931; NPS-WASO-NAGPRA-NPS0042037; PPWOCRADN0-PCU00RP14.R50000]

Notice of Intended Repatriation: Salt River Agricultural Improvement and Power District, Tempe, AZ

AGENCY: National Park Service, Interior.

ACTION: Notice.

SUMMARY: In accordance with the Native American Graves Protection and Repatriation Act (NAGPRA), the Salt River Project Agricultural Improvement and Power District intends to repatriate certain cultural items that meet the definition of unassociated funerary objects, sacred objects, and/or objects of cultural patrimony and that have a cultural affiliation with the Indian Tribes or Native Hawaiian organizations in this notice.

DATES: Repatriation of the cultural items in this notice may occur on or after March 25, 2026.

ADDRESSES: Send additional, written requests for repatriation of the cultural items in this notice to Marissa Sotomayor, Salt River Project Agricultural Improvement and Power District, 1500 N Mill Avenue, Tempe, AZ 85288, email Marissa.Sotomayor@srpnet.com.

SUPPLEMENTARY INFORMATION: This notice is published as part of the National Park Service's administrative responsibilities under NAGPRA. The determinations in this notice are the sole responsibility of the Salt River Project Agricultural Improvement and Power District, and additional information on the determinations in this notice, including the results of consultation, can be found in the summary or related records. The National Park Service is not responsible for the determinations in this notice.

Abstract of Information Available

A total of 231 cultural items have been requested for repatriation. The 148 unassociated funerary objects are ceramic vessels, ceramic effigies, shells, groundstone palettes, mortars, and censers, ceramic and glass beads. The 80 sacred objects are stone hoes, picks, palettes, censers, mortars, shat straighteners, metates, slate pendants, axes, and shells. The three objects of cultural patrimony are a ceramic vessel and two stone hoes.

Based on the information available, 226 of the cultural items were removed from a site in Arizona, Maricopa County, by Audie Russell Kelley (b. 1907 d. 1954); the date of removal is unknown. The collection was previously in the possession of archaeologist Audie Russell Kelley and was sold to the Salt River Project Agricultural Improvement and Power District in 1973 by his wife, Peggy Kelley, following his decease.

The other five cultural items were also removed from a site in Arizona, Maricopa County, by Frank Midvale (b. 1903, d. 1971) and Omar Turney (b. 1866, d. 1929); the date of removal is unknown. The collection was previously in the possession of archaeologist Frank Midvale and was sold to the Salt River Project Agricultural Improvement and Power District in the early 1970s by his family following his decease.

The Salt River Project Agricultural Improvement and Power District records indicate no known hazardous substances used to treat any of the cultural items.

Determinations

The Salt River Project Agricultural Improvement and Power District has determined that:

• The 148 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 80 sacred objects described in this notice are specific ceremonial objects needed by a traditional Native American religious leader for present-day adherents to practice traditional Native American religion, according to the Native American traditional knowledge of a lineal descendant, Indian Tribe, or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Gila River Indian Community of the Gila River Indian Reservation, Arizona and the Salt River Pima-Maricopa Indian Community of the Salt River Reservation, Arizona.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, the Salt River Project Agricultural Improvement and Power District must determine the most appropriate requestor prior to repatriation. Requests for joint repatriation of the cultural items are considered a single request and not competing requests. The Salt River Project Agricultural Improvement and Power District is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03555 Filed 2-20-26; 8:45 am]

BILLING CODE 4312-52-P